DEPARTMENT OF HOMELAND SECURITY

Coast Guard

33 CFR Part 117

[Docket No. USCG-2018-0390]

Drawbridge Operation Regulation; Lake Champlain, North Hero Island, VT

AGENCY: Coast Guard, DHS.

ACTION: Notice of deviation from drawbridge regulation.

SUMMARY: The Coast Guard has issued a temporary deviation from the operating schedule that governs the US2 Bridge across Lake Champlain, mile 91.8, between South Hero Island and North Hero Island, Vermont. This deviation is necessary to extend the operating life of the drawbridge until a replacement bridge is constructed. The deviation is necessary to allow the bridge to open only on the hour during the day for the 2018 boating season.

DATES: This deviation is effective without actual notice from May 18, 2018, to 8 p.m. on October 15, 2018. For the purposes of enforcement, actual notice will be used from 8 a.m. on May 15, 2018, to May 18, 2018.

ADDRESSES: The docket for this deviation, USCG-2017-0390, is available at http://www.regulations.gov. Type the docket number in the “SEARCH” box and click “SEARCH”. Click on Open Docket Folder on the line associated with this deviation.

FOR FURTHER INFORMATION CONTACT: If you have questions on this temporary deviation, call or email Jeffrey Stieb; Bridge Management Specialist, First Coast Guard District, telephone 617-223-8364, email Jeffrey.D.Stieb@uscg.mil.

SUPPLEMENTARY INFORMATION: The bridge owner, Vermont Agency of Transportation, requested a temporary deviation from the normal operating schedule of the US2 Bridge, mile 91.8, across Lake Champlain at North Hero Island, Vermont. The drawbridge navigation span has a vertical clearance of 18 feet at ordinary low water in the closed position. The existing bridge operating regulations are found at 33 CFR 117.993(b).

Under this temporary deviation, the US2 Bridge shall open daily on signal only on the hour from 8 a.m. to 8 p.m. from May 15, 2018 through October 15, 2018.

The waterway is transited by seasonal recreational vessels of various sizes. Several marina facilities are in the area of the bridge. Vessels that are able to pass under the bridge in the closed position may do so at any time. The bridge will be able to open for emergencies, and for vessels unable to pass through the bridge in the closed position there is an alternate route to the north under the Alburg Passage US2 fixed bridge. The Alburg Passage US2 Bridge has a vertical clearance of 25 feet at ordinary low water. The Coast Guard will inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this deviation. This deviation from the operating regulations is authorized under 33 CFR 117.35.

Dated: May 7, 2018.
Christopher J. Bisignano,
Supervisory Bridge Management Specialist, First Coast Guard District.

[FR Doc. 2018-10594 Filed 5-17-18; 8:45 am]

BILLING CODE 9110-04-P